DEPARTMENT OF LABOR

Employment and Training Administration

[TA-W-54,982]

Fort Hill Lumber Company Including Leased Workers of Express Personnel Services/Brown & Dutton, Grand Ronde, OR; Notice of Revised Determination on Reopening

The Department on its own motion reopened the Department's Negative Determination Regarding Eligibility to Apply for Worker Adjustment Assistance, applicable to the workers of the subject firm.

The initial investigation resulted in a negative determination signed on July 29, 2004 was based on the finding that imports of various solid wood products, such as dimensional lumber did not contribute importantly to worker separations at the subject plant and no shift of production to a foreign source occurred. The denial notice was published in the Federal Register on August 20, 2004 (69 FR 51715).

After the negative determination was issued the Department received additional results of the survey of one of the subject firm's major customers. The survey was initiated but not completed during the original investigation. Upon further review and contact with this customer, it was revealed that the customer significantly increased its import purchases of various solid wood products while decreasing its purchases from the subject firm during the relevant period. The imports accounted for a meaningful portion of the subject plant's lost sales and production.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at Fort Hill Lumber Company, Grande Ronde, Oregon contributed importantly to the declines in sales or production and to the total or partial separation of workers at the subject firm. In accordance with the provisions of the Act, I make the following certification:

“All workers of Fort Hill Lumber Company, Including leased workers of Express Personnel Services/Brown & Dutton, Grand Ronde, Oregon who became totally or partially separated from employment on or after May 20, 2003 through two years from the date of this certification, are eligible to apply for adjustment assistance under Section 223 of the Trade Act of 1974, and are eligible to apply for alternative trade adjustment assistance under Section 246 of the Trade Act of 1974.”

Signed in Washington, DC, this 9th day of November 2004.
Elliott S. Kushner,
Certifying Officer, Division of Trade Adjustment Assistance.

[FR Doc. E4-3364 Filed 11-29-04; 8:45 am]

BILLING CODE 4510-30-P